DEPARTMENT OF ENERGY

Federal Energy Regulatory Commission

[Project No. 2660-038]

Woodland Pulp, LLC; Notice of Application for Surrender of License Accepted for Filing, Soliciting Comments, Motions To Intervene, and Protests

Take notice that the following hydroelectric application has been filed with the Commission and is available for public inspection:

a. Application Type: Surrender of License.

b. Project No: 2660-038.

c. Date Filed: October 31, 2023, and supplemented December 15, 2023.

d. Applicant: Woodland Pulp, LLC.

e. Name of Project: Forest City Storage Project.

f. Location: The project is located on the East Branch of the St. Croix River in Washington and Aroostook counties, Maine. The project does not occupy federal land.

g. Filed Pursuant to: Federal Power Act, 16 U.S.C. 791a-825r.

h. Applicant Contact: Steve Strout, 144 Main Street, Baileyville, ME 04694, steve.strout@igic.com, 207-214-4628.

i. FERC Contact: Michael Calloway, (202) 502-8041, Michael.calloway@ferc.gov.

j. Cooperating Agencies: With this notice, the Commission is inviting federal, state, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: February 29, 2024.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne Reese, Acting Secretary, Federal Energy Regulatory Commission, 888 First Street NE, Room 1A, Washington, DC 20426. Submissions sent via any other carrier must be addressed to: Debbie-Anne Reese, Secretary, Federal Energy Regulatory Commission, 12225 Wilkins Avenue, Rockville, Maryland 20852. The first page of any filing should include the docket number P-2660-038. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The licensee is proposing to surrender the license for the Forest City Storage Project. After project surrender the licensee would leave the gates of the Forest City Dam in place and operable, which will allow East Grand Lake's elevation to remain similar to historical operations. The licensee is proposing to deed ownership of the dam to the St. Croix International Waterway Commission after finalization of the surrender. St. Croix International Waterway Commission would be in control of directing operations of the dam, which they intend to manage for the purposes of: protection, mitigation of, damage to, and enhancement of fish and wildlife; protection of recreational opportunities; preservation of other aspects of environmental quality; and flood control. No modifications to the existing dam are proposed and no ground-disturbing activities would occur with the proposed surrender.

The licensee filed a notice withdrawing their previous December 23, 2016 surrender application pursuant to 18 CFR 385.216 (Rule 216) of the Commission's regulations because the new application does not include removal of the gates and permanent lowering of the lake elevation as was contained in the 2016 application. A Notice of Effectiveness of Withdrawal of the 2016 application was issued on January 9, 2024, in the Commission's eLibrary system.

Because the licensee withdrew its 2016 surrender application, this is a new surrender proceeding, and anyone interested in commenting, intervening, or protesting in this proceeding should do so in accordance with the directions below.

m. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application. As noted above, Woodland Pulp's October 31, 2023 application initiated a new proceeding and anyone interested in submitting a comment, motion to intervene, or protest on the proposal should do so.

p. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 25, 2024.
Debbie-Anne. Reese,
Acting Secretary.

[FR Doc. 2024-01903 Filed 1-30-24; 8:45 am]

BILLING CODE 6717-01-P